DEPARTMENT OF DEFENSE

Office of the Secretary

[Docket ID: DOD-2020-OS-0108]

Proposed Collection; Comment Request

AGENCY: Washington Headquarters Services, Department of Defense (DoD).

ACTION: Information collection notice.

SUMMARY: In compliance with the Paperwork Reduction Act of 1995, the Washington Headquarters Services announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 1, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Washington Headquarters Services, 1155 Defense Pentagon BF739, Washington, DC ATTN: Ms. Julia Shmirkin, 703-697-2245.

SUPPLEMENTARY INFORMATION:

Title; Associated Form; and OMB Number: Workplace Environment Changes and Safety Questionnaire; OMB Control Number 0704-0593.

Needs and Uses: Washington Headquarters Services (WHS) is a services provider to the Pentagon, Mark Center, and other leased facilities within the National Capital Region. In response to the Coronavirus Pandemic (COVID-19), WHS implemented new policies within the buildings to provide a safe workplace environment for those working in the buildings. This collection of information will provide WHS an understanding of the effectiveness of these new policies in making the tenants feel safer in working inside the building, what additional assistance WHS can provide to further improve tenants' safety, to assure accurate and continuous communication efforts, and telework experience.

Affected Public: Individuals and Households.

Annual Burden Hours: 20 hours.

Number of Respondents: 240.

Responses per Respondent: 1.

Annual Responses: 240.

Average Burden per Response: 5 minutes.

Frequency: Annually.

Dated: December 30, 2020.
Kayyonne T. Marston,
Alternate OSD Federal Register Liaison Officer, Department of Defense.

[FR Doc. 2020-29193 Filed 1-5-21; 8:45 am]

BILLING CODE 5001-06-P